DEPARTMENT OF HOMELAND SECURITY

Coast Guard

33 CFR Parts 140, 142, and 150

46 CFR Part 197

[Docket No. USCG-2014-0014]

Workplace Safety and Health for Merchant Mariners

AGENCY: Coast Guard, DHS.

ACTION: Request for comments on petition for rulemaking.

SUMMARY: The Coast Guard seeks public comment on a petition that requests the Coast Guard to initiate a rulemaking to address mariner occupational health and safety. In the attachments to its petition, which asserts that the Coast Guard has failed to provide adequate workplace safety and health measures to protect limited tonnage merchant mariners, the National Mariner's Association has identified several safety and occupational health issues that are not currently addressed under the jurisdiction of the Coast Guard. The Coast Guard will consider all comments received in response to this notice in determining whether or not to initiate the requested rulemaking.

DATES: Comments and related material must either be submitted to our online docket via http://www.regulations.gov on or before August 6, 2014, or reach the Docket Management Facility by that date.

ADDRESSES: You may submit comments identified by docket number USCG-2014-0014 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, contact Mr. Dan Lawrence, Office of Vessel and Facility Operating Standards (CG-OES-2), U.S. Coast Guard Headquarters, at telephone 202-372-1382, or by email at james.d.lawrence@uscg.mil. If you have questions on viewing or submitting material to the docket, call Cheryl Collins, Program Manager, Docket Operations, telephone 202-366-9826.

SUPPLEMENTARY INFORMATION:

Public Participation and Request for Comments

We encourage you to submit comments and related material on the rulemaking petition described below regarding workplace safety and health for merchant mariners. All comments received will be posted, without change, to http://www.regulations.gov and will include any personal information you have provided.

Submitting comments: If you submit a comment, please include the docket number for this notice (USCG-2014-0014) and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov, and follow the instructions on that Web site. The following link will take you directly to the docket where you may submit your comment: http://www.regulations.gov/#!docketDetail;D=USCG-2014-0014. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the rulemaking petition and comments: To view the petition and comments that have been submitted to the docket, go to http://www.regulations.gov, and follow the instructions on that Web site. The following link will take you directly to the docket: http://www.regulations.gov/#!docketDetail;D=USCG-2014-0014. If you do not have access to the internet, you may view the docket in person by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Description of Petition for Rulemaking

In its Petition for Rulemaking dated November 12, 2013, the National Mariners Association (NMA) asserts that the Coast Guard has not provided adequate workplace safety and health measures comparable to the workplace safety and health measures of the Occupational Safety and Health Administration (OSHA). The NMA views it as the Coast Guard's responsibility, under the Occupational Safety and Health Act of 1970, to provide regulations, comparable to the workplace safety and health regulations of OSHA, in order to protect the safety and health of merchant mariners.

Workplace Safety and Health for Merchant Mariners Determination

The NMA requests that the Coast Guard establish adequate workplace safety and health regulations, comparable to OSHA workplace safety and health regulations, in order to protect merchant mariners. The petitioner identifies several workplace related safety and health issues where the petitioner has determined that merchant mariners are not currently protected.

Request for Comments

We invite you to review the petition in the docket and submit relevant comments, including comments on whether a rulemaking would be beneficial, or not. The Coast Guard has determined that public comments are needed to aid in the determination whether or not a rulemaking is appropriate. The Coast Guard will consider the petition, any comments received from the public, and other information to determine whether or not to initiate the requested rulemaking.

This notice is issued under authority of 5 U.S.C. 552(a) and 33 CFR 1.05-20.

Dated: April 24, 2014.
F.J. Sturm,
Acting Director of Commercial Regulations and Standards, U.S. Coast Guard.

[FR Doc. 2014-09851 Filed 5-7-14; 8:45 am]

BILLING CODE 9110-04-P